DEPARTMENT OF TRANSPORTATION

Federal Aviation Administration

14 CFR Part 71

[Docket No. FAA-2003-14936; Airspace Docket No. 03-ACE-39]

Modification of Class E Airspace; Muscatine, IA

Correction

In rule document 03-11642 beginning on page 24871 in the issue of Friday, May 9, 2003, make the following correction:

§71.1 [Corrected]

On page 24872, in the third column, in §71.1, under ACE IA E5 Muscatine, IA , in the 10th line, “northwest” should read, “northeast”.

[FR Doc. C3-11642 Filed 5-15-03; 8:45 am]

BILLING CODE 1505-01-D